DEPARTMENT OF STATE

[Public Notice 3636]

Notice of Information Collection under Emergency Review: Medical History and Examination for Foreign Service (OMB# 1405-0068)

AGENCY: Department of State.

ACTION: Notice.

SUMMARY: The Department of State has submitted the following information collection request to the Office of Management and Budget (OMB) for review and approval in accordance with the emergency review procedures of the Paperwork Reduction Act of 1995.

Type of Request: Reinstatement of Expired Information Collection

Originating Office: Office of Medical Services M/DGHR/MED.

Title of Information Collection: Medical History and Examination for Foreign Service.

Frequency: Biennially.

Form Number: DS-1843 Medical History and Examination for Foreign Service for Persons 12 Years and Over and DS-1622 Medical History and Examination for Foreign Service for Persons 11 Years and Under.

Respondents: Candidates for Foreign Service Positions and their Eligible Family Members.

Estimated Number of Respondents: 12,000.

Average Hours Per Response: 1 hour.

Total Estimated Burden: 12,000.

The proposed information collection is published to obtain comments from the public and affected agencies. Emergency review and approval of this collection has been requested from OMB by April 14, 2001. If granted, the emergency approval is valid for 180 days. Comments should be directed to the State Department Desk Officer, Office of Information and Regulatory Affairs, Office of Management and Budget (OMB), Washington, DC 20530, (202) 395-3897.

During the first 60 days of this same period a regular review of this information collection is also being undertaken. Comments are encouraged and will be accepted until 60 days from the date of publication of this notice. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURHER INFORMATION CONTACT: Public comments, or requests for additional information, regarding the collection listed in this notice should be directed to John A. Triplett, Office of Medical Services, 2401 E Street, NW, Room 201, (202) 663-1680, U.S. Department of State, Washington, DC 20520.

Dated: March 26, 2001.
Gary R. Alexander,
Executive Director, Office of Medical Services, Department of State.

[FR Doc. 01-8811 Filed 4-9-01; 8:45 am]

BILLING CODE 4710-36-U